COMMITTEE FOR PURCHASE FROM PEOPLE WHO ARE BLIND OR SEVERELY DISABLED

Procurement List; Deletions

AGENCY: Committee for Purchase From People Who Are Blind or Severely Disabled.

ACTION: Deletions from the Procurement List.

SUMMARY: The Committee is proposing to delete products and services from the Procurement List that were previously furnished by nonprofit agencies employing persons who are blind or have other severe disabilities.

DATES: Effective Date: June 26, 2016.

ADDRESSES: Committee for Purchase From People Who Are Blind or Severely Disabled, 1401 S. Clark Street, Suite 715, Arlington, Virginia, 22202-4149.

FOR FURTHER INFORMATION CONTACT: Barry S. Lineback, Telephone: (703) 603-7740, Fax: (703) 603-0655, or email CMTEFedReg@AbilityOne.gov.

SUPPLEMENTARY INFORMATION:

Deletions

On 4/22/2016 (81 FR 23682) and 4/29/2016 (81 FR 25652), the Committee for Purchase From People Who Are Blind or Severely Disabled published notices of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 8501-8506) in connection with the products and services deleted from the Procurement List.

End of Certification

Accordingly, the following products and services are deleted from the Procurement List:

Products

NSN(s)—Product Name(s):

MR 3206—Goody Hair Care Products—Stay Put Headbands sports 4ct

MR 3210—Goody Hair Care Products—Ouchless Elastic Long Thin

MR 3237—Goody Hair Care Products—Bobby Pin Box w/magnetic Top black

MR 3238—Goody Hair Care Products—Bobby Pin Box w/magnetic Top brown

MR 3244—Goody Hair Care Products—Comb, 7in Utility

Mandatory Source(s) of Supply: Association for Vision Rehabilitation and Employment, Inc., Binghamton, NY

Contracting Activity: Defense Commissary Agency

NSN(s)—Product Name(s):

7195-01-567-9518—Bulletin Board, Fabric, 48″ x 36″, Plastic Frame

7195-01-484-0015—Bulletin Board, Granite Finish, 48″ x 36″, Aluminum Frame

Mandatory Source(s) of Supply: The Lighthouse for the Blind, Inc. (Seattle Lighthouse), Seattle, WA

Contracting Activities:

Department of Veterans Affairs, NAC, Hines, IL

General Services Administration, Philadelphia, PA

NSN(s)—Product Name(s): 8455-01-591-5248—Lapel Pin, Navy Retired, Dual Flag

Mandatory Source(s) of Supply: Industries for the Blind, Inc., West Allis, WI

Contracting Activity: Defense Logistics Agency Troop Support

NSN(s)—Product Name(s): 7105-00-935-1845—Cover, Folding Cot

Mandatory Source(s) of Supply: Cambria County Association for the Blind and Handicapped, Johnstown, PA

Contracting Activity: Defense Logistics Agency Troop Support

NSN(s)—Product Name(s): 1055-01-141-5205—Webbing

Mandatory Source(s) of Supply: Huntsville Rehabilitation Foundation, Huntsville, AL

Contracting Activity: Defense Logistics Agency Land and Maritime

Services

Service Type: Janitorial/Custodial Service

Mandatory for: GSA PBS Region 3, Metro West, 300 and 400 North Greene Street, Baltimore, MD

Mandatory Source(s) of Supply: The Chimes, Inc., Baltimore, MD

Contracting Activity: GSA/PBS/R03, Regional Contracts Support Services Section, Philadelphia, PA

Service Type: Recycling Service

Mandatory for: Francis E. Warren Air Force Base, Francis E. Warren AFB, WY

Mandatory Source(s) of Supply: Magic City Enterprises, Inc., Cheyenne, WY

Contracting Activity: Dept of the Air Force, FA4613 90 CONS LGC, Francis E. Warren AFB, WY

Service Type: Laundry Service

Mandatory for: McChord Air Force Base: Lodging Colored Linen, McChord AFB, WA

Mandatory Source(s) of Supply: Northwest Center, Seattle, WA

Contracting Activity: Dept of the Air Force, FA4479 62 CONS LGC, McChord AFB, WA

Barry S. Lineback,
Director, Business Operations.

[FR Doc. 2016-12588 Filed 5-26-16; 8:45 am]

BILLING CODE 6353-01-P